DEPARTMENT OF COMMERCE

International Trade Administration

Implementation of the Findings of the WTO Panel in US Zeroing (EC): Notice of Initiation of Proceedings Under Section 129 of the URAA; Opportunity to Request Administrative Protective Orders; and Proposed Timetable and Procedures

AGENCY: Import Administration, International Trade Administration, Department of Commerce.

ACTION: Notice of Initiation of Proceedings Under Section 129 of the URAA; Opportunity to Request Administrative Protective Orders; and Proposed Timetable and Procedures

DATES: March 1, 2007.

FOR FURTHER INFORMATION CONTACT: Daniel O'Brien, William Kovatch, or Michael Rill, Import Administration, International Trade Administration, U.S. Department of Commerce, 14th Street and Constitution Ave NW, Washington, DC 20230; telephone: (202) 482-1376, (202) 482-5052, or (202) 482-3058, respectively.

SUPPLEMENTARY INFORMATION:

Background

On December 27, 2006, the Department published Antidumping Proceedings: Calculation of the Weighted Average Dumping Margin During an Antidumping Investigation; Final Modification; see 71 FR 77722 (Final Modification) in the Federal Register. As stated in the Final Modification, the Department will no longer make average-to-average comparisons in antidumping duty investigations without providing offsets for non-dumped comparisons. The Department stated that, among other things, it would apply the Final Modification in the implementation of the findings of the WTO panel in United States - Laws, Regulations and Methodology for Calculating Dumping Margins (“Zeroing”) (WT/DS294) (US Zeroing (EC)) pursuant to section 129 of the Uruguay Round Agreements Act (URAA) with respect to the specific investigations challenged by the EC.

The Department is initiating proceedings to implement the WTO panel's report in US - Zeroing (EC), consistent with section 129 of the URAA (Section 129 Proceedings) in the following antidumping duty investigations:

1. Certain Hot-rolled Carbon Steel from the Netherlands (A-421-807)

2. Stainless Steel Bar from France (A-427-820)

3. Stainless Steel Bar from Germany (A-428-830)

4. Stainless Steel Bar from Italy (A-475-829)

5. Stainless Steel Bar from the United Kingdom (A-412-822)

6. Stainless Steel Wire Rod from Sweden (A-401-806)

7. Stainless Steel Wire Rod from Spain (A-469-807)

8. Stainless Steel Wire Rod from Italy (A-475-820)

9. Certain Stainless Steel Plate in Coils from Belgium (A-423-808)

10. Stainless Steel Sheet and Strip in Coils from Italy (A-475-824)

11. Certain Cut-to-length Carbon-quality Steel Plate from Italy (A-475-826)

12. Certain Pasta from Italy (A-475-818)

Although the EC challenged 15 antidumping duty investigations, the Department revoked the antidumping duty order associated with three of those investigations: Certain Cut-to-Length Carbon-Quality Steel Plate from France (A-427-816), Certain Stainless Steel Sheet and Strip in Coils from France (A-427-814), and Certain Stainless Steel Sheet and Strip in Coils from the United Kingdom (A-412-818). See Certain Stainless Steel Sheet and Strip in Coils from France and the United Kingdom; Final Results of Sunset Reviews and Revocation of Antidumping Duty Order, 70 FR 44894 (August 4, 2005); Revocation of Antidumping Duty Order: Certain Cut-To-Length Carbon-Quality Steel Plate from France, 70 FR 72787 (December 7, 2005). Pursuant to section 129(c)(1)(B) of the URAA, a determination made under section 129 applies to unliquidated entries of the subject merchandise entered, or withdrawn from warehouse, for consumption on or after the date on which the U.S. Trade Representative directs the Department to implement the determination. The date on which the U.S. Trade Representative directs the Department to implement the determination will necessarily be after the effective date of revocation of the above-cited three investigations. As a result, the Department is not conducting section 129 proceedings with respect to the three investigations.

Scope of the Section 129 Proceedings

The WTO panel found that the Department acted inconsistently with the Antidumping Agreement when it engaged in average-to-average comparisons during the challenged investigations without providing offsets for sales where the export price was greater than normal value. In these Section 129 Proceedings, it is the Department's intention to recalculate the weighted-average dumping margin starting with the calculation of the weighted-average dumping margin in the final determination of the original investigations. Where the Department issued an amended final determination, as a result of litigation or otherwise, the Department intends to start with the calculation of the weighted-average dumping margin in the most recent amended final determination. The Department is opening a separate administrative record in each of these Section 129 Proceedings, and placing on each administrative record an administrative protective order, the relevant databases, and the margin calculation computer program. The Department intends solely to recalculate the dumping margins using the methodology described in the Final Modification.

Opportunity to Request an Administrative Protective Order

In accordance with section 351.305(b) of the Department's regulations, interested parties may request access to business proprietary information concerning these proceedings.

Timetable

The Department intends to issue its draft results by February 26, 2007, for each of the subject investigations. Interested parties may submit case briefs no later than two weeks after the issuance of the draft results, consistent with 19 CFR 351.309(c)(1)(i). Rebuttal briefs, limited to issues raised in the case briefs, may be filed no later than five days after the deadline for case briefs, consistent with 19 CFR 351.309(d). Interested parties may request a hearing on the issues raised in the case and rebuttal briefs no later than five days after the deadline for the case briefs. See 19 CFR 351.310(c) (stating the Secretary may alter the time for submitting a request for a hearing).

The purpose of the Section 129 Proceedings is to render the Department's determination not inconsistent with the findings of the panel. To that end, the Department will calculate the margins of dumping using the methodology announced in the Final Modification based on the databases on the record of the Section 129 Proceedings. The Department will not accept any submissions prior to the issuance of the draft results. As set forth above, parties may file case briefs and rebuttal briefs after the drafts are issued. In accordance with the Department's regulations, case briefs must present all arguments that are in the submitter's view relevant to the final results. See 19 CFR 351.309(c)(2).

This notice is not required by statute but is published as a service to the international trading community.

Dated: February 22, 2007.
David M. Spooner,
Assistant Secretary for Import Administration.

[FR Doc. E7-3510 Filed 2-28-07; 8:45 am]

BILLING CODE 3510-DS-S